DEPARTMENT OF DEFENSE

Office of the Secretary

Revision to the Standard Forms 76, 76A, 186, and 186A

AGENCY: Under Secretary of Defense for Personnel and Readiness, Federal Voting Assistance Program, DoD.

ACTION: Notice.

SUMMARY: The Department of Defense, Under Secretary of Defense (Personnel and Readiness), Federal Voting Assistance Program, revised Standard Form 76, Federal Post Card Application for Registration and Absentee Ballot; SF 76A, Registration and Absentee Ballot Request—Federal Post Card Application (FPCA) (Electronic); SF 186, Federal Write-in Absentee Ballot; and SF 186A, Federal Write-in Absentee Ballot (Electronic) to meet new Federal laws and technology, including but not limited to, the use of electronic transmission (faxing) for transmitting the form. The SF 76 and SF 186 will be stocked by GSA, Federal Acquisition Inventory Management Branch, 819 Taylor Street, Ft. Worth, TX 76102, and available February 6, 2006.

DATES: Effective upon publication in the Federal Register.

FOR FURTHER INFORMATION CONTACT: Ms. Betty Collins, Department of Defense, 703-588-8123.

Dated: February 22, 2006.
Patricia L. Toppings,
Alternate OSD Federal Register Liaison Officer, Department of Defense.

[FR Doc. 06-1602 Filed 2-21-06; 8:45 am]

BILLING CODE 5001-06-M